DEPARTMENT OF HEALTH AND HUMAN SERVICES

Agency Information Collection Request; 60-Day Public Comment Request

AGENCY: Office of the Assistant Secretary for Planning and Evaluation, Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Multi-Payor Claims Database (New—XXXXXXX).

Office of the Assistant Secretary for Planning and Evaluation (ASPE)—American Recovery and Reinvestment Act-funded Comparative Effectiveness Research Program.

Abstract

The Multi-Payor Claims Database (MPCD) project is one of a number of initiatives related to comparative effectiveness research (CER) funded by the American Recovery and Reinvestment Act of 2009. The Act provided $1.1 billion to build the necessary infrastructure and capacity to support CER. Approximately 25% of the $400 million allocated to the Office of the Secretary for Health and Human Services went towards data infrastructure projects such as the MPCD. Within HHS, ASPE was tasked with managing the MPCD project in partnership with the Center for Medicare and Medicaid Services (CMS).

The project represents a private/public partnership with the goal of consolidating access to longitudinal data on health services financed by both public and private payers to help facilitate CER. Inclusion of data from multiple sources should allow for adequate coverage of priority patient populations, less common medical conditions, health care interventions, and geographic areas. As the title of the project suggests, the MPCD will initially include claims data, since these data are most readily available. Over time, data with additional clinical detail from other sources, such as EHRs, may be incorporated into the database.

The contract to develop the MPCD is a 3-year contract between Ingenix Public Sector Solutions (as the primary contractor) and ASPE. We envision several types of respondents, accessing data at different tiers within the MPCD, as shown in the table below. The respondents will not be accessing data on any regular frequency, but rather on an ad hoc basis. The affected public will be individual researchers, health policy analysts and researchers at affiliated with MPCD data contributors as well as key stakeholder staff and analysts within HHS.

Estimated Annualized Burden Table
Forms | Type of respondent | Number of respondents | Number of responses per respondent | Average burden (in hours) per response | Total burden hours
Tiers 1, 2 and 3 | Principal Investigators, Project Data Analysts and Project Directors | 293 | 3 | 35/60 | 513
Tiers 1 and 2 | Healthcare Organization administrators and analysts | 125 | 3 | 20/60 | 125
Tier 1 | Patients and consumers | 50 | 4 | 5/60 | 17
Total |  |  |  |  | 655

Keith Tucker,
Office of the Secretary, Paperwork Reduction Act Clearance Officer.

[FR Doc. 2011-24444 Filed 9-22-11; 8:45 am]

BILLING CODE P